DEPARTMENT OF TRANSPORTATION

Surface Transportation Board

49 CFR Part 1333

[STB Ex Parte No. 707]

Demurrage Liability

AGENCY: Surface Transportation Board.

ACTION: Notice of OMB approval of information collection.

SUMMARY: Pursuant to the Paperwork Reduction Act and Office of Management and Budget (OMB) regulations, the Surface Transportation Board has obtained OMB approval for the collection of information adopted by the Board in Demurrage Liability, STB Ex Parte No. 707 (STB served April 14, 2014).

DATES: OMB approved this collection on June 26, 2014. Unless renewed, OMB approval expires on June 30, 2017.

SUPPLEMENTARY INFORMATION: Pursuant to the PRA and OMB regulations at 5 CFR 1320.11, the Surface Transportation Board has obtained OMB approval for the collection of information adopted by the Board in Demurrage Liability, STB Ex Parte No. 707 (STB served April 14, 2014). See 79 FR 21407 (April 14, 2014).

This collection, which is codified at 49 CFR part 1333, has been assigned OMB Control No. 2140-0021. The display of a currently valid OMB control number for this collection is required by law. Under the PRA and 5 CFR 1320.8, an agency may not conduct or sponsor, and a person is not required to respond to, a collection of information unless the collection displays a currently valid OMB control number.

Jeffrey Herzig,
Clearance Clerk.

[FR Doc. 2014-15771 Filed 7-3-14; 8:45 am]

BILLING CODE 4915-01-P